DEPARTMENT OF TRANSPORTATION

National Highway Traffic Safety Administration

49 CFR Parts 523, 534, and 535

[Docket No. NHTSA-2010-0079]

Notice of Availability of a Draft Environmental Impact Statement (DEIS) for New Medium- and Heavy-Duty Fuel Efficiency Improvement Program

AGENCY: National Highway Traffic Safety Administration (NHTSA), Department of Transportation (DOT).

ACTION: Notice of availability of a Draft Environmental Impact Statement (DEIS).

SUMMARY: NHTSA has prepared a DEIS to disclose and analyze the potential environmental impacts of the agency's newly proposed fuel consumption standards for commercial medium- and heavy-duty on-highway vehicles and work trucks (“HD vehicles”), which NHTSA recently proposed pursuant to the Energy Independence and Security Act of 2007. NHTSA invites Federal, State, and local agencies, Indian tribes, and the public to submit written comments on the DEIS using the instructions set forth in this notice. To facilitate review of the DEIS, NHTSA has posted the DEIS on its Web site (http://www.nhtsa.gov/fuel-economy) and placed it in the agency's docket, identified by the docket number at the beginning of this notice. NHTSA will consider all public comments received on the DEIS in preparing final NEPA documents to support final fuel consumption standards, which NHTSA plans to issue next year.

DATES: To ensure that NHTSA has the opportunity to consider comments on the DEIS, NHTSA must receive written comments by January 3, 2011. NHTSA will try to consider comments received after that date to the extent the NEPA and rulemaking schedules allow, but NHTSA cannot ensure that it will be able to do so.

FOR FURTHER INFORMATION CONTACT: Questions concerning the DEIS should be addressed to Ms. Angel Jackson, Telephone: 1-202-366-0154, Fuel Economy Division, Office of International Vehicle, Fuel Economy and Consumer Standards, National Highway Traffic Safety Administration, 1200 New Jersey Avenue, SE., Washington, DC 20590. E-mail: nhtsa.nepa@dot.gov. Information about the HD vehicle rulemaking and the NEPA process is also available at http://www.nhtsa.gov/fuel-economy.

ADDRESSES: You may submit comments to the docket number identified in the heading of this document by any of the following methods:

• Online: Go to http://www.regulations.gov. Follow the instructions for submitting comments on the electronic docket Web site by clicking on “Help” or “FAQs.”

• Mail: Docket Management Facility, M-30, U.S. Department of Transportation, West Building, Ground Floor, Room W12-140, 1200 New Jersey Avenue, SE., Washington, DC 20590.

• Hand Delivery or Courier: U.S. Department of Transportation, West Building, Ground Floor, Room W12-140, 1200 New Jersey Avenue, SE., Washington, DC, between 9 a.m. and 5 p.m. Eastern time, Monday through Friday, except Federal holidays.

• Fax: 202-493-2251.

Instructions: All submissions must include the agency name and docket number. Note that all comments received will be posted without change to http://www.regulations.gov, including any personal information provided. Please see the Privacy Act discussion below. We will consider all comments received before the close of business on the comment closing date indicated above. To the extent possible, we will also consider comments filed after the closing date.

Docket: For access to the docket to read background documents or comments received, go to http://www.regulations.gov at any time or to 1200 New Jersey Avenue, SE., West Building Ground Floor, Room W12-140, Washington, DC 20590, between 9 a.m. and 5 p.m., Monday through Friday, except Federal holidays. Telephone: (202) 366-9826.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Confidential Business Information: If you wish to submit any information under a claim of confidentiality, you should submit three copies of your complete submission, including the information you claim to be confidential business information, to the Chief Counsel, NHTSA, at the address given under FOR FURTHER INFORMATION CONTACT. In addition, you should submit two copies, from which you have deleted the claimed confidential business information, to the Docket Management Facility at the address given above. When you send a comment containing information claimed to be confidential business information, you should include a cover letter setting forth the information specified in our confidential business information regulation (49 CFR Part 512).

SUPPLEMENTARY INFORMATION: NHTSA has prepared a DEIS to disclose and analyze the potential environmental impacts of the agency's newly proposed Fuel Efficiency Improvement Program for HD vehicles.¹ Concurrent with the DEIS, NHTSA and the U.S. Environmental Protection Agency (EPA) announced a joint proposed rulemaking that would reduce greenhouse gas (GHG) emissions from and increase the fuel efficiency of HD vehicles. The joint proposed rules will be published in the near future in the Federal Register. NHTSA is proposing fuel consumption standards under the Energy Independence and Security Act of 2007 (EISA),² and EPA is proposing GHG emissions standards under the Clean Air Act. These proposed standards would be tailored to each of three regulatory categories of HD vehicles: Combination Tractors; Pick-up Trucks and Vans; and Vocational Vehicles, as well as gasoline and diesel HD vehicle engines. EPA's proposed GHG emissions standards would begin with model year (MY) 2014. NHTSA's proposed fuel consumption standards would be optional in MYs 2014 and 2015, becoming mandatory beginning in MY 2016 for most regulatory categories. The joint proposed rulemaking is consistent with President Obama's May 21, 2010 directive to improve the fuel efficiency of and reduce GHG pollution from HD vehicles through coordinated Federal standards.³ EPA and the Federal Motor Carrier Safety Administration (FMCSA) served as cooperating agencies in the preparation of the DEIS. EPA has special expertise in the areas of climate change and air quality and FMCSA has special expertise in HD vehicles.

¹ See National Environmental Policy Act (NEPA), 42 U.S.C. Sec. 4321-4347, and implementing regulations issued by the Council on Environmental Quality (CEQ), 40 CFR Parts 1500-1508, and NHTSA, 49 CFR Part 520.

² Public Law No. 110-140, 121 Stat. 1492 (Dec. 19, 2007) (codified at 49 U.S.C. 32901).

³ See The White House, Office of the Press Secretary, Presidential Memorandum Regarding Fuel Efficiency Standards (May 21, 2010), available at http://www.whitehouse.gov/the-press-office/presidential-memorandum-regarding-fuel-efficiency-standards (last accessed Nov. 1, 2010); see also The White House, Office of the Press Secretary, President Obama Directs Administration to Create First-Ever National Efficiency and Emissions Standards for Medium- and Heavy-Duty Trucks (May 21, 2010), available at http://www.whitehouse.gov/the-press-office/president-obama-directs-administration-create-first-ever-national-efficiency-and-em (last accessed Nov. 1, 2010).

To inform decisionmakers and the public, the DEIS analyzes the potential environmental impacts of the proposed standards and alternative standards for MYs 2014-2018, including a “No Action” Alternative, pursuant to NEPA regulations.⁴ The DEIS analyzes direct, indirect, and cumulative impacts in proportion to their significance. It provides a detailed analysis of potential impacts on energy resources, air quality, and climate. The DEIS uses climate modeling and estimated fuel savings to provide quantitative estimates of potential impacts on air quality, CO2 emissions, global mean surface temperature, precipitation, and sea level rise. The DEIS provides a qualitative analysis of resources that may be impacted by changes in climate, such as freshwater resources, terrestrial ecosystems, coastal ecosystems, land use, human health, and environmental justice. It examines impacts on the U.S. and on a global scale. In addition, the DEIS analyzes potential environmental impacts unrelated to climate change.

⁴ The “No Action” Alternative assumes that NHTSA would not issue a rule regarding a HD Fuel Efficiency Improvement Program, and is considered to comply with NEPA and to provide an analytical baseline against which to compare environmental impacts of the other regulatory alternatives. See 40 CFR 1502.2(e), 1502.14(d). NEPA requires agencies to consider a “no action” alternative in their NEPA analyses and to compare the effects of not taking action with the effects of the reasonable action alternatives to demonstrate the different environmental effects of the action alternatives.

How can I get a copy of the DEIS?

The DEIS is available on NHTSA's Web site at http://www.nhtsa.gov/fuel-economy and in the agency's docket identified by the docket number at the beginning of this notice. To request a CD containing the DEIS and its Appendices, please contact Ms. Angel Jackson using the contact information in the FOR FURTHER INFORMATION CONTACT section above.

How do I comment on the DEIS?

NHTSA invites the submission of written comments on the DEIS which the agency will consider in preparing the final NEPA documents to support the new Fuel Efficiency Improvement Program. Your comments must be written and in English. To ensure that your comments are correctly filed in the Docket, please include the docket number at the beginning of this notice in your comments.

Your primary comments cannot exceed 15 pages.⁵ However, you may attach additional documents to your primary comments. There is no limit to the length of the attachments.

⁵ 49 CFR 553.21.

Anyone is able to search the electronic form of all comments received into any of our dockets by the name of the individual submitting the comment (or signing the comment, if submitted on behalf of an association, business, labor union, etc.). You may review DOT's complete Privacy Act Statement in the Federal Register at 65 FR 19477, April 11, 2000, or you may visit http://www.regulations.gov.

If you wish Docket Management to notify you upon its receipt of your comments, enclose a self-addressed, stamped postcard in the envelope containing your comments. Upon receiving your comments, Docket Management will return the postcard by mail.

As NHTSA and EPA recently announced in the Federal Register,⁶ the agencies are holding two public hearings on the proposed fuel consumption standards. At these hearings, NHTSA will also accept comments to the DEIS.

⁶ See 75 FR 67059 (Nov. 1, 2010).

How do I submit confidential business information?

If you wish to submit any information under a claim of confidentiality, send three copies of your complete submission, including the information you claim to be confidential business information, to the Chief Counsel, National Highway Traffic Safety Administration, 1200 New Jersey Avenue, SE., Washington, DC 20590. Include a cover letter supplying the information specified in our confidential business information regulation (49 CFR Part 512).

In addition, send two copies from which you have deleted the claimed confidential business information to Docket Management, 1200 New Jersey Avenue, SE., West Building, Room W12-140, Washington, DC 20590, or submit them electronically, in the manner described at the beginning of this notice.

Will the agency consider late comments?

NHTSA will consider all comments that Docket Management receives before the close of business on the comment closing date indicated above under DATES. To the extent the NEPA and rulemaking schedules allow, NHTSA will try to consider comments that Docket Management receives after that date, but we cannot ensure that we will be able to do so.⁷

⁷ See 49 CFR 553.23.

Please note that even after the comment closing date, we will continue to file relevant information in the docket as it becomes available. Further, some commenters may submit late comments. Accordingly, we recommend that you periodically check the docket for new material.

Issued on: November 1, 2010.
Joseph S. Carra
Acting Associate Administrator for Rulemaking.

[FR Doc. 2010-27930 Filed 11-4-10; 8:45 am]

BILLING CODE 4910-59-P